DEPARTMENT OF TRANSPORTATION

Federal Aviation Administration

14 CFR Part 39

[Docket No. FAA-2017-0713; Product Identifier 2016-NM-199-AD; Amendment 39-19170; AD 2018-02-17]

RIN 2120-AA64

Airworthiness Directives; Airbus Airplanes

AGENCY: Federal Aviation Administration (FAA), DOT.

ACTION: Final rule; correction.

SUMMARY: The FAA is correcting an airworthiness directive (AD) that published in the Federal Register. That AD applies to certain Airbus Model A330-200, -200 Freighter, and -300 series airplanes, and all Model A340-200, -300, -500, and -600 series airplanes. As published, six paragraph references located in three tables of that AD are incorrect. This document corrects the errors. In all other respects, the original document remains the same.

DATES: This correction is effective March 16, 2018.

The Director of the Federal Register approved the incorporation by reference of certain publications listed in this AD as of March 16, 2018 (83 FR 5689, February 9, 2018).

ADDRESSES: For service information identified in this final rule, contact Airbus SAS, Airworthiness Office—EAL, 1 Rond Point Maurice Bellonte, 31707 Blagnac Cedex, France; telephone +33 5 61 93 36 96; fax +33 5 61 93 45 80; email: airworthiness.A330-A340@airbus.com; internet http://www.airbus.com. You may view this referenced service information at the FAA, Transport Standards Branch, 1601 Lind Avenue SW, Renton, WA. For information on the availability of this material at the FAA, call 425-227-1221. It is also available on the internet at http://www.regulations.gov by searching for and locating Docket No. FAA-2017-0713.

Examining the AD Docket

You may examine the AD docket on the internet at http://www.regulations.gov; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 1601 Lind Avenue SW, Renton, WA 98057-3356; telephone 425-227-1138; fax 425-227-1149.

SUPPLEMENTARY INFORMATION: As published, Airworthiness Directive 2018-02-17, Amendment 39-19170 (83 FR 5689, February 9, 2018) (“AD 2018-02-17”), requires repetitive inspections of certain cargo doors, and repair if necessary, a one-time inspection and adjustment of certain hook gaps, reinforcement of the door frame structure, related investigative and corrective actions if necessary, and a modification. That AD applies to certain Airbus Model A330-200, -200 Freighter, and -300 series airplanes, and all Model A340-200, -300, -500, and -600 series airplanes.

Need for the Correction

As published, six paragraph references located in three tables of AD 2018-02-17 are incorrect.

Table 1 to paragraph (h)(1) of AD 2018-02-17 refers to paragraphs (r)(1) and (r)(2) of that AD. Table 2 and table 3 to paragraph (l)(1) of AD 2018-02-17 refer to paragraphs (r)(3) and (r)(4) of that AD. In the notice of proposed rulemaking (NPRM) (82 FR 37360, August 10, 2017), these references were correct. However, during the development of the final rule for AD 2018-02-17, paragraph (r) was redesignated as paragraph (s) but the references to paragraph (r) were not updated accordingly. Where the tables in AD 2018-02-17 refer to paragraphs (r)(1), (r)(2), (r)(3), and (r)(4), the correct references are paragraphs (s)(1), (s)(2), (s)(3), and (s)(4) of this AD.

Related Service Information Under 1 CFR Part 51

Airbus has issued the following service information.

The following service information describes procedures for inspecting and repairing the frame fork area at beam 4 and frame head area at beam 1 from frame 20B to frame 25 of the forward cargo door, and adjusting the hook gaps “U” and “V.” This service information is distinct since it applies to different airplane models.

• Service Bulletin A330-52-3087, Revision 02, including Appendix 01, dated February 18, 2016.

• Service Bulletin A340-52-4095, Revision 02, including Appendix 01, dated November 29, 2015.

• Service Bulletin A340-52-5020, Revision 02, including Appendices 01 and 02, dated November 27, 2015.

The following service information describes procedures for modifying the frame fork area at beam 4 and frame head area at beam 1 from frame 20B to frame 25 of the forward cargo door frame. This service information is distinct since it applies to different airplane models and configurations.

• Service Bulletin A330-52-3105, dated February 24, 2016.

• Service Bulletin A330-52-3110, dated February 15, 2016.

• Service Bulletin A330-52-3111, dated February 15, 2016.

• Service Bulletin A340-52-4108, dated February 15, 2016.

• Service Bulletin A340-52-4113, dated February 15, 2016.

• Service Bulletin A340-52-4114, dated February 15, 2016.

The following service information describes procedures for modifying the fastener holes in the forward cargo door frame structure by cold working and changing the fastener type and size. This service information is distinct since it applies to different airplane models and configurations.

• Service Bulletin A330-52-3116, dated April 20, 2016.

• Service Bulletin A330-52-3117, dated April 20, 2016.

• Service Bulletin A330-52-3118, dated April 20, 2016.

• Service Bulletin A340-52-4119, dated April 20, 2016.

• Service Bulletin A340-52-4120, dated April 20, 2016.

• Service Bulletin A340-52-4121, dated April 20, 2016.

The following service information describes procedures for inspecting the frame fork area at beam 4 and frame head area at beam 1 of the aft cargo door from frame 60 to frame 64A, adjusting the hook gaps “U” and “V,” and doing corrective actions. This service information is distinct since it applies to different airplane models and configurations.

• Service Bulletin A330-52-3095, Revision 02, including Appendices 01 and 02, dated February 19, 2016.

• Service Bulletin A340-52-4101, Revision 02, including Appendices 01 and 02, dated November 27, 2015.

• Service Bulletin A340-52-5023, Revision 02, including Appendices 01 and 02, dated November 27, 2015.

The following service information describes procedures for modifying the frame fork and head of the aft cargo door frame from frame 59A to frame 65. This service information is distinct since it applies to different airplane models and configurations.

• Service Bulletin A330-52-3106, dated February 24, 2016.

• Service Bulletin A330-52-3112, dated February 24, 2016.

• Service Bulletin A330-52-3113, dated February 15, 2016.

• Service Bulletin A330-52-3114, dated February 15, 2016.

• Service Bulletin A340-52-4109, dated February 25, 2016.

• Service Bulletin A340-52-4115, dated February 19, 2016.

The following service information describes procedures for modifying the fastener holes in the aft cargo door frame structure by cold working and changing the fastener type and size. This service information is distinct since it applies to different airplane models.

• Service Bulletin A330-52-3115, dated April 20, 2016.

• Service Bulletin A340-52-4118, dated April 20, 2016.

This service information is reasonably available because the interested parties have access to it through their normal course of business or by the means identified in the ADDRESSES section.

Correction of Publication

This document corrects several errors and correctly adds the AD as an amendment to 14 CFR 39.13. Although no other part of the preamble or regulatory information has been corrected, we are publishing the entire rule in the Federal Register.

The effective date of this AD remains March 16, 2018.

Since this action only corrects paragraph references, it has no adverse economic impact and imposes no additional burden on any person. Therefore, we have determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2018-02-17 Airbus: Amendment 39-19170; Docket No. FAA-2017-0713; Product Identifier 2016-NM-199-AD.

(a) Effective Date

This AD is effective March 16, 2018.

(b) Affected ADs

This AD replaces AD 2012-12-12, Amendment 39-17092 (77 FR 37797, June 25, 2012); and AD 2013-16-26, Amendment 39-17564 (78 FR 53640, August 30, 2013).

(c) Applicability

This AD applies to the Airbus airplanes identified in paragraphs (c)(1) and (c)(2) of this AD, certificated in any category, all manufacturer serial numbers, except those on which Airbus Modification 202702 and Modification 202790 have been embodied in production; and the Airbus airplanes identified in paragraphs (c)(3) through (c)(5) of this AD, certificated in any category, all manufacturer serial numbers.

(1) Model A330-201, -202, -203, -223, -223F, -243, and -243F airplanes.

(2) Model A330-301, -302, -303, -321, -322, -323, -341, -342, and -343 airplanes.

(3) Model A340-211, -212, and -213 airplanes.

(4) Model A340-311, -312, and -313 airplanes.

(5) Model A340-541 and -642 airplanes.

(d) Subject

Air Transport Association (ATA) of America Code 52, Doors.

(e) Reason

This AD was prompted by reports of cracked forward and aft cargo door frames, and loose, missing, or sheared rivets. We are issuing this AD to detect and correct cracked or ruptured cargo door frames, which could result in reduced structural integrity of the forward or aft cargo door.

(f) Compliance

Comply with this AD within the compliance times specified, unless already done.

(g) Affected Cargo Doors

For the purpose of this AD, the affected cargo doors are pre-modification 202702 (forward cargo door) and pre-modification 202790 (aft cargo door), and are listed by part number (P/N) in the applicable service information identified in paragraph (h)(1) or (l)(1) of this AD. For post-modification doors, which are not affected by this AD, the part numbers are identified as F52370900XXX (forward cargo door) and F52372315XXX (aft cargo door), where “XXX” can be a combination of any three numerical digits.

(h) Forward Cargo Door Repetitive Inspections

(1) Before exceeding 5,300 total flight cycles since first installation of the forward cargo door on an airplane, or within the applicable compliance time specified in table 1 to paragraph (h)(1) of this AD, whichever occurs later, except as specified in paragraph (q) of this AD: Do all applicable detailed and high frequency eddy current (HFEC) inspections of all frame fork areas, frame head areas, and outer skin areas of each affected forward cargo door, as applicable; in accordance with the Accomplishment Instructions of the applicable service information specified in paragraph (h)(1)(i), (h)(1)(ii), or (h)(1)(iii) of this AD. Do all applicable related investigative actions and corrective actions before further flight in accordance with the Accomplishment Instructions of the applicable service information specified in paragraph (h)(1)(i), (h)(1)(ii), or (h)(1)(iii) of this AD, except as required by paragraph (p) of this AD. Repeat the applicable inspections of the frame fork areas, frame head areas, and outer skin areas of each affected forward cargo door thereafter at intervals not to exceed 1,400 flight cycles.

BILLING CODE 4910-13-P

BILLING CODE 4910-13-C

(i) Airbus Service Bulletin A330-52-3087, Revision 02, including Appendix 01, dated February 18, 2016 (“SB A330-52-3087, R02”).

(ii) Airbus Service Bulletin A340-52-4095, Revision 02, including Appendix 01, dated November 29, 2015 (“SB A340-52-4095, R02”).

(iii) Airbus Service Bulletin A340-52-5020, Revision 02, including Appendices 01 and 02, dated November 27, 2015 (“SB A340-52-5020, R02”).

(2) Concurrently with the first inspection required by paragraph (h)(1) of this AD: Do a one-time detailed inspection of the hook gaps “U” and “V” of each affected forward cargo door for proper adjustment, and, depending on findings, adjust the hook(s), in accordance with the Accomplishment Instructions of the applicable service information specified in paragraph (h)(2)(i), (h)(2)(ii), or (h)(2)(iii) of this AD. Do all the required hook gap adjustments before further flight.

(i) SB A330-52-3087, R02.

(ii) SB A340-52-4095, R02.

(iii) SB A340-52-5020, R02.

(i) Forward Cargo Door Modification

(1) Except as specified in paragraph (i)(2) of this AD, before exceeding 18,500 total flight cycles since first installation of the forward cargo door on an airplane, or within 12 months after March 16, 2018 (the effective date of this AD), whichever occurs later: Do reinforcement modifications on the frame structure of each affected forward cargo door, in accordance with the Accomplishment Instructions of the applicable service information specified in paragraphs (i)(1)(i) through (i)(1)(vi) of this AD, except as required by paragraph (p) of this AD.

(i) Airbus Service Bulletin A330-52-3105, dated February 24, 2016 (for certain Model A330-202, -223, and -243 airplanes; and Model A330-301, -321, -322, -341, and -342 airplanes).

(ii) Airbus Service Bulletin A330-52-3110, dated February 15, 2016 (for certain Model A330-202, -203, -223, and -243 airplanes; and Model A330-303, -323, and -343 airplanes).

(iii) Airbus Service Bulletin A330-52-3111, dated February 15, 2016 (for certain Model A330-202, -203, -223, -223F, -243, and -243F airplanes; and Model A330-302, -303, -323, -342, and -343 airplanes).

(iv) Airbus Service Bulletin A340-52-4108, dated February 15, 2016 (for certain Model A340-211, -212, and -213 airplanes; and Model A340-311, -312, and -313 airplanes).

(v) Airbus Service Bulletin A340-52-4113, dated February 15, 2016 (for certain Model A340-312 and -313 airplanes).

(vi) Airbus Service Bulletin A340-52-4114, dated February 15, 2016 (for certain Model A340-313 airplanes).

(2) Accomplishment of the reinforcement modifications required by paragraph (i)(1) of this AD may be deferred, provided that, before exceeding 18,500 total flight cycles since first installation of the forward cargo door on an airplane, or within 12 months after March 16, 2018 (the effective date of this AD), whichever occurs later, but not earlier than 14,500 total flight cycles for Model A330 airplanes, or 12,500 total flight cycles for Model A340 airplanes, cold working is accomplished on the frame structure of each affected forward cargo door, in accordance with the Accomplishment Instructions of the applicable service information specified in paragraphs (i)(2)(i) through (i)(2)(vi) of this AD, except as required by paragraph (p) of this AD. Modification of an airplane by accomplishment of the cold working specified in this paragraph does not constitute terminating action for the repetitive inspections required by paragraph (h)(1) of this AD.

(i) Airbus Service Bulletin A330-52-3116, dated April 20, 2016 (for certain Model A330-202, -223, and -243 airplanes; and Model A330-301, -321, -322, -341, and -342 airplanes).

(ii) Airbus Service Bulletin A330-52-3117, dated April 20, 2016 (for certain Model A330-202, -203, -223, and -243 airplanes; and Model A330-303, -323, and -343 airplanes).

(iii) Airbus Service Bulletin A330-52-3118, dated April 20, 2016 (for certain Model A330-202, -203, -223, -223F, -243, and -243F airplanes; and Model A330-302, -303, -323, -342, and -343 airplanes).

(iv) Airbus Service Bulletin A340-52-4119, dated April 20, 2016 (for certain Model A340-211, -212, and -213 airplanes; and Model A340-311, -312, and -313 airplanes).

(v) Airbus Service Bulletin A340-52-4120, dated April 20, 2016 (for certain Model A340-312 and -313 airplanes).

(vi) Airbus Service Bulletin A340-52-4121, dated April 20, 2016 (for certain Model A340-313 airplanes).

(3) Within 18,500 flight cycles after cold working is accomplished on the frame structure of each affected forward cargo door as specified in paragraph (i)(2) of this AD: Do the reinforcement modifications on the frame structure of each affected forward cargo door, using a method approved by the Manager, International Section, Transport Standards Branch, FAA; or the European Aviation Safety Agency (EASA); or Airbus's EASA Design Organization Approval (DOA). If approved by the DOA, the approval must include the DOA-authorized signature.

(j) Forward Cargo Door Terminating Action

Modification of an airplane by reinforcement of the forward cargo door frame structure required by paragraph (i)(1) or (i)(3) of this AD constitutes terminating action for the inspections required by paragraph (h)(1) and (h)(2) of this AD for that airplane.

(k) Definitions of Pre-Modified and Post-Modified Airplanes of Aft Cargo Door

(1) For the purpose of this AD, pre-modified Model A330-200 series airplanes, Model A330-200 Freighter series airplanes, Model A330-300 series airplanes, Model A340-200 series airplanes, and Model A340-300 series airplanes are defined as those not having Airbus Modification 44852, or Modification 44854 applied in production, or being in pre-Airbus Service Bulletin A330-52-3044 or pre-Airbus Service Bulletin A340-52-4054 configuration, as applicable.

(2) For the purpose of this AD, post-modification Model A330-200 series airplanes, Model A330-200 Freighter series airplanes, Model A330-300 series airplanes, Model A340-200 series airplanes, and Model A340-300 series airplanes are defined as those having Airbus Modification 44852 or Modification 44854 applied in production, or modified in service as specified in Airbus Service Bulletin A330-52-3044 or Airbus Service Bulletin A340-52-4054, as applicable.

(l) Aft Cargo Door Repetitive Inspections

(1) Before exceeding 4,000 total flight cycles for pre-modified airplanes, or 12,000 total flight cycles for post-modified airplanes, since first installation of the aft cargo door on an airplane, as applicable, or within the compliance time specified in table 2 to paragraph (l)(1) of this AD or table 3 to paragraph (l)(1) of this AD, as applicable, whichever occurs later, except as specified in paragraph (q) of this AD: Do all applicable inspections of all frame fork areas, frame head areas, and outer skin area of each affected aft cargo door, in accordance with the Accomplishment Instructions of the applicable service information specified in paragraph (l)(1)(i), (l)(1)(ii), or (l)(1)(iii) of this AD. Do all applicable related investigative actions and corrective actions before further flight in accordance with the Accomplishment Instructions of the applicable service information specified in paragraph (l)(1)(i), (l)(1)(ii), or (l)(1)(iii) of this AD, except as required by paragraph (p) of this AD. Repeat the applicable inspections thereafter at intervals not to exceed 1,400 flight cycles.

BILLING CODE 4910-13-P

BILLING CODE 4910-13-C

(i) Airbus Service Bulletin A330-52-3095, Revision 02, including Appendices 01 and 02, dated February 19, 2016 (“SB A330-52-3095, R02”).

(ii) Airbus Service Bulletin A340-52-4101, Revision 02, including Appendices 01 and 02, dated November 27, 2015 (“SB A340-52-4101, R02”).

(iii) Airbus Service Bulletin A340-52-5023, Revision 02, including Appendices 01 and 02, dated November 27, 2015 (“SB A340-52-5023, R02”).

(2) Concurrently with the first inspection required by paragraph (l)(1) of this AD: Do a one-time detailed inspection of the hook gaps “U” and “V” of each affected aft cargo door for proper adjustment and, depending on findings, adjust the hook(s) in accordance with the Accomplishment Instructions of the applicable service information specified in paragraph (l)(2)(i), (l)(2)(ii), or (l)(2)(iii) of this AD. Do all the required hook gap adjustments before further flight.

(i) SB A330-52-3095, R02.

(ii) SB A340-52-4101, R02.

(iii) SB A340-52-5023, R02.

(m) Modification for Pre-Modified Airplanes

(1) For pre-modified airplanes, except as specified in paragraph (m)(2) of this AD: Before exceeding 18,500 total flight cycles since first installation of the aft cargo door on an airplane, or within 12 months after March 16, 2018 (the effective date of this AD), whichever occurs later, do reinforcement modifications, in accordance with the Accomplishment Instructions of the applicable service information specified in paragraphs (m)(1)(i) through (m)(1)(vi) of this AD, except as required by paragraph (p) of this AD.

(i) Airbus Service Bulletin A330-52-3106, dated February 24, 2016 (for certain Model A330-301, -321, -322, -341, and -342 airplanes).

(ii) Airbus Service Bulletin A330-52-3112, dated February 24, 2016 (for certain Model A330-202 and -223 airplanes; and Model A330-301, -322, -341, and -342 airplanes).

(iii) Airbus Service Bulletin A330-52-3113, dated February 15, 2016 (for certain Model A330-223 and -243 airplanes; and Model A330-322 and -342 airplanes).

(iv) Airbus Service Bulletin A330-52-3114, dated February 15, 2016 (for certain Model A330-202, -203, -223, -223F, -243, and -243F airplanes; and Model A330-302, -303, -323, -342, and -343 airplanes).

(v) Airbus Service Bulletin A340-52-4109, dated February 25, 2016 (for certain Model A340-211, -212, and -213 airplanes; and Model A340-311, -312, and -313 airplanes).

(vi) Airbus Service Bulletin A340-52-4115, dated February 19, 2016 (for certain Model A340-212, -213, and -313 airplanes).

(2) Accomplishment of the reinforcement modifications required by paragraph (m)(1) of this AD may be deferred provided that before exceeding 18,500 total flight cycles since first installation of the aft cargo door on an airplane, or within 12 months after March 16, 2018 (the effective date of this AD), whichever occurs later, but not earlier than 14,500 total flight cycles, cold working is accomplished on the frame structure of each affected aft cargo door, in accordance with the Accomplishment Instructions of Airbus Service Bulletin A330-52-3115, dated April 20, 2016; or Airbus Service Bulletin A340-52-4118, dated April 20, 2016; as applicable. Modification of an airplane by accomplishment of the cold working specified in this paragraph does not constitute terminating action for the repetitive inspections required by paragraph (l)(1) of this AD.

(3) For an airplane on which the cold working on the cargo door frame structure is accomplished, as specified in paragraph (m)(2) of this AD: Within 18,500 flight cycles after the application of cold working, do reinforcement modifications, in accordance with the Accomplishment Instructions of the service information specified in paragraphs (m)(1)(i) through (m)(1)(vi) of this AD, as applicable, or using a method approved by the Manager, International Section, Transport Standards Branch, FAA; or EASA; or Airbus's EASA DOA. If approved by the DOA, the approval must include the DOA-authorized signature.

(n) Terminating Action Aft Cargo Doors for Pre-Modified Airplanes

Modification of an airplane by reinforcement of the aft cargo door frame structure required by paragraph (m)(1) or (m)(3) of this AD constitutes terminating action for the inspections required by paragraph (l)(1) and (l)(2) of this AD for that airplane.

(o) Optional Terminating Action Modification for Post-Modified Airplanes

For post-modified airplanes, modification of an airplane by reinforcement of the aft cargo door frame structure, in accordance with the Accomplishment Instructions of the applicable service information specified in paragraphs (m)(1)(i) through (m)(1)(vi) of this AD, or using a method approved by the Manager, International Section, Transport Standards Branch, FAA; or EASA; or Airbus's EASA DOA, constitutes terminating action for the inspections required by paragraph (l)(1) and (l)(2) of this AD for that airplane. If approved by the DOA, the approval must include the DOA-authorized signature.

(p) Exceptions to Service Information

Where the service information specified in paragraphs (h)(1), (i)(1), (i)(2), (l)(1), and (m) of this AD specifies to contact Airbus for instructions or repair, before further flight, accomplish corrective actions in accordance with the procedures specified in paragraph (t)(2) of this AD.

(q) Exception to Initial Inspection Compliance Time

For the purposes of table 1 to paragraph (h)(1) of this AD, table 2 to paragraph (l)(1) of this AD, and table 3 to paragraph (l)(1) of this AD: As soon as a cargo door is inspected using any applicable service information specified in this AD, the previous inspections accomplished in accordance with any alert operator transmission can be disregarded for the determination of the compliance time for the initial inspection required by this AD.

(r) Exception To Reporting in the Service Information

Although the Airbus service bulletins specified in paragraphs (r)(1) through (r)(6) of this AD specify to submit certain information to the manufacturer, and specify that action as “RC” (Required for Compliance), this AD does not include that requirement.

(1) SB A330-52-3087, R02.

(2) SB A330-52-3095, R02.

(3) SB A340-52-4095, R02.

(4) SB A340-52-4101, R02.

(5) SB A340-52-5020, R02.

(6) SB A340-52-5023, R02.

(s) Credit for Previous Actions

(1) This paragraph provides credit for the initial inspection required by paragraph (h) of this AD, if that inspection was performed before March 16, 2018 (the effective date of this AD), using Airbus Service Bulletin A330-52-3087, dated August 29, 2013; Airbus Service Bulletin A340-52-4095, dated August 29, 2013; or Airbus Service Bulletin A340-52-5020, dated August 29, 2013; as applicable; provided that the actions identified as “additional work” in the Accomplishment Instructions of Airbus Service Bulletin A330-52-3087, Revision 01, dated July 9, 2014; Airbus Service Bulletin A340-52-4095, Revision 01, dated July 28, 2014; or Airbus Service Bulletin A340-52-5020, Revision 01, dated July 9, 2014; as applicable; are accomplished within 1,100 flight cycles after that inspection; and provided the next inspection of all frame fork areas, frame head areas, and outer skin area of each affected forward cargo door is accomplished within 1,100 flight cycles after that inspection, in accordance with the Accomplishment Instructions of SB A330-52-3087, R02; SB A340-52-4095, R02; or SB A340-52-5020, R02, as applicable.

(2) This paragraph provides credit for the initial inspection required by paragraph (h) of this AD, if that inspection was performed before March 16, 2018 (the effective date of this AD), using Airbus Service Bulletin A330-52-3087, Revision 01, dated July 9, 2014; Airbus Service Bulletin A340-52-4095, Revision 01, dated July 28, 2014; or Airbus Service Bulletin A340-52-5020, Revision 01, dated July 9, 2014; as applicable; provided that the next inspection of all frame fork areas, frame head areas, and outer skin area of each affected forward cargo door, is accomplished within 1,100 flight cycles after that inspection in accordance with the Accomplishment Instructions of SB A330-52-3087, R02; SB A340-52-4095, R02; or SB A340-52-5020, R02, as applicable.

(3) This paragraph provides credit for the initial inspection required by paragraph (l) of this AD, if that inspection was performed before March 16, 2018 (the effective date of this AD), using Airbus Service Bulletin A330-52-3095, dated August 29, 2013; Airbus Service Bulletin A340-52-4101, dated August 29, 2013; or Airbus Service Bulletin A340-52-5023, dated August 29, 2013; provided that the actions identified as “additional work” in the Accomplishment Instructions of Airbus Service Bulletin A330-52-3095, Revision 01, dated July 28, 2014; Airbus Service Bulletin A340-52-4101, Revision 01, dated July 28, 2014; or Airbus Service Bulletin A340-52-5023, Revision 01, dated July 28, 2014; as applicable; are accomplished within 550 flight cycles after that inspection, and provided the next inspection of all frame fork areas, frame head areas, and outer skin area of each affected aft cargo door is accomplished within 550 flight cycles after that inspection in accordance with the Accomplishment Instructions of SB A330-52-3095, R02; SB A340-52-4101, R02; or SB A340-52-5023, R02, as applicable.

(4) This paragraph provides credit for the initial inspection required by paragraph (l) of this AD, if that inspection was performed before March 16, 2018 (the effective date of this AD), using Airbus Service Bulletin A330-52-3095, Revision 01, dated July 28, 2014; Airbus Service Bulletin A340-52-4101, Revision 01, dated July 28, 2014; or Airbus Service Bulletin A340-52-5023, Revision 01, dated July 28, 2014; as applicable; provided that the next inspection of all frame fork areas, frame head areas, and outer skin area of each affected aft cargo door is accomplished within 550 flight cycles after that inspection in accordance with the Accomplishment Instructions of SB A330-52-3095, R02; SB A340-52-4101, R02; or SB A340-52-5023, R02, as applicable.

(5) Where Airbus Service Bulletins A330-52-3095, Revision 01, dated July 28, 2014; A340-52-4101, Revision 01, dated July 28, 2014; A340-52-5020, Revision 01, dated July 9, 2014; and A340-52-5023, Revision 01, dated July 28, 2014; refer to using fasteners having P/N ASNA2657, this AD also allows the use of alternative HST11 series fasteners.

(t) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (u)(2) of this AD. Information may be emailed to: 9-ANM-116-AMOC-REQUESTS@faa.gov. Before using any approved AMOC, notify your appropriate principal inspector, or lacking a principal inspector, the manager of the local flight standards district office/certificate holding district office.

(2) Contacting the Manufacturer: As of March 16, 2018 (the effective date of this AD), for any requirement in this AD to obtain corrective actions from a manufacturer, the action must be accomplished using a method approved by the Manager, International Section, Transport Standards Branch, FAA; or the EASA; or Airbus's EASA DOA. If approved by the DOA, the approval must include the DOA-authorized signature.

(3) Required for Compliance (RC): Except as required by paragraphs (p) and (r) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(u) Related Information

(1) Refer to Mandatory Continuing Airworthiness Information (MCAI) EASA AD 2016-0188, dated September 21, 2016; corrected September 22, 2016; for related information. This MCAI may be found in the AD docket on the internet at http://www.regulations.gov by searching for and locating Docket No. FAA-2017-0713.

(2) For more information about this AD, contact Vladimir Ulyanov, Aerospace Engineer, International Section, Transport Standards Branch, FAA, 1601 Lind Avenue SW, Renton, WA 98057-3356; telephone 425-227-1138; fax 425-227-1149.

(3) Service information identified in this AD that is not incorporated by reference is available at the addresses specified in paragraphs (v)(4) and (v)(5) of this AD.

(v) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 16, 2018 (83 FR 5689, February 9, 2018).

(i) Airbus Service Bulletin A330-52-3087, Revision 02, including Appendix 01, dated February 18, 2016.

(ii) Airbus Service Bulletin A330-52-3095, Revision 02, including Appendices 01 and 02, dated February 19, 2016.

(iii) Airbus Service Bulletin A330-52-3105, dated February 24, 2016.

(iv) Airbus Service Bulletin A330-52-3106, dated February 24, 2016.

(v) Airbus Service Bulletin A330-52-3110, dated February 15, 2016.

(vi) Airbus Service Bulletin A330-52-3111, dated February 15, 2016.

(vii) Airbus Service Bulletin A330-52-3112, dated February 24, 2016.

(viii) Airbus Service Bulletin A330-52-3113, dated February 15, 2016.

(ix) Airbus Service Bulletin A330-52-3114, dated February 15, 2016.

(x) Airbus Service Bulletin A330-52-3115, dated April 20, 2016.

(xi) Airbus Service Bulletin A330-52-3116, dated April 20, 2016.

(xii) Airbus Service Bulletin A330-52-3117, dated April 20, 2016.

(xiii) Airbus Service Bulletin A330-52-3118, dated April 20, 2016.

(xiv) Airbus Service Bulletin A340-52-4095, Revision 02, including Appendix 01, dated November 29, 2015.

(xv) Airbus Service Bulletin A340-52-4101, Revision 02, including Appendices 01 and 02, dated November 27, 2015.

(xvi) Airbus Service Bulletin A340-52-4108, dated February 15, 2016.

(xvii) Airbus Service Bulletin A340-52-4109, dated February 25, 2016.

(xviii) Airbus Service Bulletin A340-52-4113, dated February 15, 2016.

(xix) Airbus Service Bulletin A340-52-4114, dated February 15, 2016.

(xx) Airbus Service Bulletin A340-52-4115, dated February 19, 2016.

(xxi) Airbus Service Bulletin A340-52-4118, dated April 20, 2016.

(xxii) Airbus Service Bulletin A340-52-4119, dated April 20, 2016.

(xxiii) Airbus Service Bulletin A340-52-4120, dated April 20, 2016.

(xxiv) Airbus Service Bulletin A340-52-4121, dated April 20, 2016.

(xxv) Airbus Service Bulletin A340-52-5020, Revision 02, including Appendices 01 and 02, dated November 27, 2015.

(xxvi) Airbus Service Bulletin A340-52-5023, Revision 02, including Appendices 01 and 02, dated November 27, 2015.

(4) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; internet: http://www.airbus.com.

(5) You may view this service information at the FAA, Transport Standards Branch, 1601 Lind Avenue SW, Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on March 1, 2018.
Michael Kaszycki,
Acting Director, System Oversight Division, Aircraft Certification Service.

[FR Doc. 2018-04645 Filed 3-7-18; 8:45 am]

BILLING CODE 4910-13-P